DEPARTMENT OF ENERGY

Federal Energy Regulatory Commission

Combined Notice of Filings #1

Take notice that the Commission received the following electric corporate filings:

Docket Numbers: EC19-68-000.

Applicants: Clearway Energy Group LLC, Clearway Energy, Inc.

Description: Application for Authorization Under Section 203 of the Federal Power Act of Clearway Energy Group LLC, et al.

Filed Date: 3/18/19.

Accession Number: 20190318-5118.

Comments Due: 5 p.m. ET 4/8/19.

Take notice that the Commission received the following electric rate filings:

Docket Numbers: ER10-2794-028; ER12-1825-026; ER14-2672-013.

Applicants: EDF Trading North America, LLC, EDF Energy Services, LLC, EDF Industrial Power Services (CA), LLC.

Description: Notice of Non-Material Change in Status of the EDF Sellers.

Filed Date: 3/18/19.

Accession Number: 20190318-5124.

Comments Due: 5 p.m. ET 4/8/19.

Docket Numbers: ER19-1371-000.

Applicants: Florida Power & Light Company.

Description: § 205(d) Rate Filing: FPL and FKEC Amendments to Rate Schedule FERC No. 322 to be effective 1/1/2018.

Filed Date: 3/18/19.

Accession Number: 20190318-5103.

Comments Due: 5 p.m. ET 4/8/19.

Docket Numbers: ER19-1372-000.

Applicants: Florida Power & Light Company.

Description: § 205(d) Rate Filing: FPL and LCEC Amendments to Rate Schedule FERC No. 317 to be effective 1/1/2018.

Filed Date: 3/18/19.

Accession Number: 20190318-5109.

Comments Due: 5 p.m. ET 4/8/19.

Docket Numbers: ER19-1373-000.

Applicants: Midcontinent Independent System Operator, Inc.

Description: § 205(d) Rate Filing: 2019-03-19_SA 3269 Flying Cow Wind—Otter Tail GIA (J493) to be effective 3/5/2019.

Filed Date: 3/19/19.

Accession Number: 20190319-5035.

Comments Due: 5 p.m. ET 4/9/19.

Docket Numbers: ER19-1374-000.

Applicants: Midcontinent Independent System Operator, Inc.

Description: § 205(d) Rate Filing: 2019-03-19_SA 3271 Bondurant-Montezuma 345kV Structure Replacement MPFCA to be effective 3/20/2019.

Filed Date: 3/19/19.

Accession Number: 20190319-5065.

Comments Due: 5 p.m. ET 4/9/19.

Docket Numbers: ER19-1375-000.

Applicants: Midcontinent Independent System Operator, Inc.

Description: § 205(d) Rate Filing: 2019-03-19_SA 3273 150 Mvar Cap Bank at Blackhawk 345kV MPFCA to be effective 3/20/2019.

Filed Date: 3/19/19.

Accession Number: 20190319-5070.

Comments Due: 5 p.m. ET 4/9/19.

Docket Numbers: ER19-1376-000.

Applicants: Midcontinent Independent System Operator, Inc.

Description: § 205(d) Rate Filing: 2019-03-19_SA 3272 100 Mvar Switched Cap Bank at Montezuma 345 kV MPFCA to be effective 3/20/2019.

Filed Date: 3/19/19.

Accession Number: 20190319-5072.

Comments Due: 5 p.m. ET 4/9/19.

Docket Numbers: ER19-1377-000.

Applicants: Alabama Power Company.

Description: § 205(d) Rate Filing: Wilsonville Solar (Douglas Solar) LGIA Filing to be effective 3/8/2019.

Filed Date: 3/19/19.

Accession Number: 20190319-5078.

Comments Due: 5 p.m. ET 4/9/19.

Docket Numbers: ER19-1378-000.

Applicants: Midcontinent Independent System Operator, Inc.

Description: § 205(d) Rate Filing: 2019-03-19_SA 3274 1x50 Mvar Cap Bank at Midport 161 kV MPFCA to be effective 3/20/2019.

Filed Date: 3/19/19.

Accession Number: 20190319-5086.

Comments Due: 5 p.m. ET 4/9/19.

Docket Numbers: ER19-1379-000.

Applicants: Midcontinent Independent System Operator, Inc.

Description: § 205(d) Rate Filing: 2019-03-19_SA 3275 J438 POI Add 25 Mvar Cap Bank MPFCA to be effective 3/20/2019.

Filed Date: 3/19/19.

Accession Number: 20190319-5112.

Comments Due: 5 p.m. ET 4/9/19.

Docket Numbers: ER19-1380-000.

Applicants: Southern California Edison Company.

Description: § 205(d) Rate Filing: LGIA Luz Solar Partners LTD., VI, CAISO & SCE—Kramer Junction 6 Project to be effective 2/21/2019.

Filed Date: 3/19/19.

Accession Number: 20190319-5124.

Comments Due: 5 p.m. ET 4/9/19.

Docket Numbers: ER19-1381-000.

Applicants: Southern California Edison Company.

Description: § 205(d) Rate Filing: LGIA Luz Solar Partners LTD., VII, CAISO & SCE—Kramer Junction 7 Project to be effective 3/2/2019.

Filed Date: 3/19/19.

Accession Number: 20190319-5130.

Comments Due: 5 p.m. ET 4/9/19.

Docket Numbers: ER19-1382-000.

Applicants: FirstEnergy Solutions Corp.

Description: Compliance filing: MBR Compliance Filing [ER18-809; ER18-810] to be effective 6/1/2018.

Filed Date: 3/19/19.

Accession Number: 20190319-5131.

Comments Due: 5 p.m. ET 4/9/19.

Take notice that the Commission received the following electric securities filings:

Docket Numbers: ES19-19-000.

Applicants: Southwest Power Pool, Inc.

Description: Application under Section 204 of the Federal Power Act for Authorization to Issue Securities of Southwest Power Pool, Inc.

Filed Date: 3/19/19.

Accession Number: 20190319-5105.

Comments Due: 5 p.m. ET 4/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2019.
Nathaniel J. Davis, Sr.,
Deputy Secretary.

[FR Doc. 2019-05628 Filed 3-22-19; 8:45 am]

BILLING CODE 6717-01-P